DEPARTMENT OF DEFENSE

Department of the Army

[Docket ID: USA-2020-HQ-0002]

Submission for OMB Review; Comment Request

AGENCY: Office of the Director of Army Safety, Department of Defense (DoD).

ACTION: 30-Day information collection notice.

SUMMARY: The Department of Defense has submitted to OMB for clearance the following proposal for collection of information under the provisions of the Paperwork Reduction Act.

DATES: Consideration will be given to all comments received by July 14, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION:

Title; Associated Form; and OMB Number: Radiation Exposure Data Collection; DD Form 1952 (Dosimetry Application and Record of Previous Radiation Exposure), DA Form 7689 (Bioassay Information Summary Sheet); 0702-RADS.

Type of Request: Existing collection in use without an OMB Control Number.

Number of Respondents: 50.

Responses per Respondent: 1.

Annual Responses: 50.

Average Burden per Response: 15 minutes.

Annual Burden Hours: 12.5 hours.

Needs and Uses: The information collection requirement is to document and record an individual's external and internal short and long-term exposure to radioactive materials and radiation generating equipment. The information collection is also utilized to monitor, evaluate and control the risks and associated health hazards, conduct investigations, management studies and training to ensure individual qualifications and education in handling radioactive materials are maintained in compliance with the Nuclear Regulatory Commission (NRC) 10 CFR 20, Army NRC license conditions, and Occupational Safety and Health Administration (OSHA) 29 CFR 1926.53.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: June 8, 2021.
Aaron T. Siegel,
Alternate OSD Federal Register Liaison Officer, Department of Defense.

[FR Doc. 2021-12443 Filed 6-11-21; 8:45 am]

BILLING CODE 3710-08-P